Executive Order 14146 of January 19, 2025

Partial Revocation of Executive Order 13961

By the authority vested in me as President by the Constitution and the laws of the United States of America, and as Commander in Chief of the Armed Forces of the United States, it is hereby ordered as follows:

Section 1. Revocation. Sections 1, 3, 4, 5, and 7 of Executive Order 13961 of December 7, 2020 (Governance and Integration of Federal Mission Resilience), are hereby revoked. Sections 2, 6, and 8 of Executive Order 13961 are renumbered as Sections 1, 2, and 3, respectively. Section 1 of Executive Order 13961, as renumbered, is amended by striking the clause “To achieve this policy, in conjunction” and inserting in its place the words “In conjunction”. Section 2(b) of Executive Order 13961, as renumbered, is amended by striking the clause “the Executive Committee established in section 3 of this order” and inserting in its place the words “the Restricted Principals Committee described in section 3 of the National Security Memorandum of January 19, 2025 (National Continuity Policy)”.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 19, 2025.

[FR Doc. 2025-01759

Filed 1-23-25; 8:45 am]

Billing code 3395-F4-P